DEPARTMENT OF COMMERCE

Foreign-Trade Zones Board

[Docket 1-2004]

Foreign-Trade Zone 234-Gregg County, TX; Application for Foreign-Trade Subzone Status, LeTourneau, Inc. (Loading Equipment, Components of Offshore Drilling Rigs, Log Handling Equipment, Cranes, Drive Systems, and Parts and Components Thereof), Longview, TX

An application has been submitted to the Foreign-Trade Zones Board (the Board) by Gregg County, Texas, grantee of FTZ 234, requesting special-purpose subzone status for the manufacturing facilities (loading equipment, components of offshore drilling rigs, log handling equipment, cranes, drive systems, and parts or components thereof) of LeTourneau, Inc., located in Longview, Texas. The application was submitted pursuant to the Foreign-Trade Zones Act, as amended (19 U.S.C. 81a-81u), and the regulations of the Board (15 CFR part 400). It was formally filed on January 15, 2004.

The LeTourneau facilities are located at two sites in Longview (305 acres, with up to 68 buildings and 1.27 million sq. ft. of enclosed space): Site # 1 (290.4 acres; 63 buildings with 1,238,032 sq. ft.)—located at 2401 South High Street; and Site # 2 (14.54 acres; 5 buildings with 28,889 sq. ft.)—located at 811 Estes Drive. The facilities (approximately 900 full-time employees and contractors) produce loading equipment, components of offshore drilling rigs, log handling equipment, cranes, drive systems, and parts or components thereof, which LeTourneau intends to manufacture, assemble, test, package, and warehouse under FTZ procedures.

The company's list of categories of imported parts and materials for possible use in manufacturing, assembling, testing, packaging, and warehousing loading equipment, components of offshore drilling rigs, log handling equipment, cranes, drive systems, and parts or components thereof under FTZ procedures includes: Rubber tires; gaskets, washers, and seals (includes rubber bumpers); diesel engines; ball or roller bearings and parts; transmission shafts and cranks (driver, gear box subassembly, driver assembly, internal gear); mechanical seals; machinery parts (exhaust silencer, stacker rear frame, stacker front frame, stacker carriage); static converters (rectifier, master power card); fuses, receptacles, connectors, and plugs; instruments (voltmeter); gears and gearing (spindle); and electric generating sets (generator). Current duty rates for these input materials range up to 9.9 percent.

Zone procedures would exempt LeTourneau from Customs duty payments on foreign components used in export production. On its domestic sales, LeTourneau would be able to defer duty payments, and to choose the lower duty rate that applies to the listed finished-product categories (duty-free to 5.5 percent) for the foreign inputs listed above. LeTourneau would be able to avoid duty on foreign inputs which become scrap/waste, estimated at one percent of imported inputs. The application also indicates that the company will derive savings from simplification and expediting of the company's import and export procedures. Finally, LeTourneau's application states that the company will benefit from an FTZ-related exemption from local property tax. All of the above-cited savings from zone procedures could help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230.

The closing period for their receipt is March 29, 2004. Rebuttal comments in response to material submitted during the foregoing period may be submitted during the subsequent 15-day period to April 13, 2004.

A copy of the application and accompanying exhibits will be available for public inspection at the Office of the Foreign-Trade Zones Board's Executive Secretary at address Number 1 listed above, and at the Airport Director's Office, East Texas Regional Airport, Rt. 3, Hwy 322, Longview, TX 75603.

Dated: January 15, 2004.
Dennis Puccinelli,
Executive Secretary.

[FR Doc. 04-1934 Filed 1-28-04; 8:45 am]

BILLING CODE 3510-DS-P